DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer at (240) 276-0361.

Project: New Survey of Behavioral Health Workforce Employers, Part of the Mental and Substance Use Disorder Practitioner Data Grant Funded by SAMHSA, Grant Number H79FG000028

SAMHSA is requesting from the Office of Management and Budget (OMB) approval to administer two surveys being developed as part of the Mental and Substance Use Disorder Practitioner Data grant: (1) A one-time survey to employers of behavioral health providers and, (2) a one-time survey of licensed clinical behavioral health providers. The information gathered by these surveys will be used to gain critical new insights into, and to document, challenges in recruiting and retaining behavioral health staffing and to assess the strength of available data on the clinical behavioral health workforce actively providing care for mental health and substance use disorders.

Employer Survey

The survey includes questions to assess the following measures: Facility type (e.g., outpatient facility, inpatient, residential); type of behavioral health staff employed (e.g., addiction medicine specialists, psychiatric Nurse Practitioners, marriage and family therapists); services offered (e.g., assertive community treatment, partial hospitalization); roles and training needs of peer support specialists, case managers, care managers, and pharmacists (e.g., certification, population served, paid status, reimbursement); professions with recruitment and retention challenges (e.g., select from list of professions); reasons behind the challenges (e.g., low wages, high case load) and work-arounds (e.g., use of locum tenens); average wait-time for appointments (e.g., new patient visits); staffing needed to address gaps in care (e.g., estimated FTEs needed by profession type); use of telehealth (e.g., percent of visits); patient mix (e.g., immigrants, LGBTQ communities, number of clients); and form of payment (e.g., percent commercial, Medicaid, self-pay). The survey will be administered online through Qualtrics. The target population will be the 2,800 member organizations of the National Council of Behavioral Health (NCBH). NCBH members are healthcare organizations and management entities that offer treatment and supports to more than ten million adults and children living with mental illnesses and addictions.

The primary objectives of the survey are to:

• Better understand factors associated with challenges in both recruitment and retention at behavioral health provider organizations such as certified community behavioral health clinics, community health centers and other organizations that employ providers engaged in treating substance use disorder and mental illness.

• Estimate the workforce needed to better address gaps in care for mental health and substance use disorder.

• Obtain new insights on staffing models for treatment of serious mental illness, such as assertive community treatment.

• Collect new data on use of peer support specialists, care coordinators, and pharmacists in behavioral health care.

Provider Survey

The survey will provide important data to inform understanding regarding how many licensed clinical behavioral health specialists (licensed psychologists, licensed clinical social workers, licensed marriage and family therapists, and licensed professional counselors) are seeing clients for behavioral health needs and the populations served. The survey includes questions to assess the following measures: demographics (e.g., age, race/ethnicity, sex); professional and practice setting (e.g., self-employed, outpatient mental health clinic, zip code, hours worked); level of education (e.g., Masters in Social Work, Doctorate in Social Work); types of services provided (e.g., assertive community treatment); number of and type clients served (e.g., Medicaid, Medicare, veteran, immigrants); telehealth use (e.g., current or prior to COVID-19 outbreak); and career satisfaction and burnout (e.g., very satisfied, “I enjoy my work, I have no symptoms of burnout”).

The target population will be a random sample of 5,000 licensed clinical behavioral health providers (licensed psychologists, licensed clinical social workers, licensed marriage and family therapists, and licensed professional counselors) in states where email addresses are available with state licensure data.

The primary objectives of the survey are to:

• Assess whether state licensure data is a reliable data source for building a comprehensive database on clinical behavioral health practitioners who are actively providing client services that require licensure.

• These data will also help program planners and policy makers to better understand the available supply of clinical behavioral health providers, including those seeing Medicaid or uninsured clients, and variation in types of services provided by each profession.

Exhibit 1—Total Estimated Annualized Burden by Instrument
Type of participant activity | Number of participants | Responses per participant | Total responses | Hours per response | Total burden hours | Wage rate | Total hour cost
Employer Survey | 2,800 | 1 | 2,800 | .25 | 700 | $21.79 | $15,253
Provider Survey | 5,000 | 1 | 5,000 | .25 | 1,250 | 21.79 | 27,237.50
Total | 7,800 |  | 7,800 |  | 1,950 |  | 42,490.50

Written comments and recommendations for the proposed information collection should be sent within 30 days of publication of this notice to www.reginfo.gov/public/do/PRAMain. Find this particular information collection by selecting “Currently under 30-day Review—Open for Public Comments” or by using the search function.

Jennifer Wilson,
Budget Analyst.

[FR Doc. 2021-06700 Filed 3-31-21; 8:45 am]

BILLING CODE P